ENVIRONMENTAL PROTECTION AGENCY

[FRL-11973-01-OA]

Animal Agriculture and Water Quality Subcommittee (AAWQ), Subcommittee of the Farm, Ranch, and Rural Communities Committee (FRRCC); Notice of Public Meeting Animal Agriculture and Water Quality Subcommittee

AGENCY: Environmental Protection Agency (EPA).

ACTION: Notice of meeting.

SUMMARY: Pursuant to the Federal Advisory Committee Act (FACA), notice is hereby given that the first meeting of the Animal Agriculture and Water Quality Subcommittee, subcommittee of the Farm, Ranch, and Rural Communities Advisory Committee (FRRCC) will be held in a hybrid setting on May 30-31, 2024, at the U.S. Environmental Protection Agency (EPA) Headquarters located at 1200 Pennsylvania Avenue NW, Washington, DC 20460. The goal of the AAWQ subcommittee will be to provide recommendations that will inform the Agency's decisions regarding how to improve the implementation of the Clean Water Act (CWA) National Pollutant Discharge Elimination System (NPDES) Concentrated Animal Feeding Operation (CAFO) permitting program to more effectively reduce nutrients and other types of water pollutants from Animal Feeding Operations (AFOs), including determining whether any revisions to the regulations are warranted, and whether EPA can otherwise support the efforts of AFO operators to protect water quality. EPA is announcing this meeting with less than 15 calendar days public notice.

DATES: This hybrid in person meeting will be held on Thursday, May 30, 2024, from approximately 9 a.m. to 5 p.m. (EST) until Friday, May 31, 2024, from approximately 8:30 a.m. to 2 p.m. (EST).

ADDRESSES: The meeting will be held at the U.S. Environmental Protection Agency (EPA) Headquarters located at 1200 Pennsylvania Avenue NW, Washington, DC 20460. Virtual attendance will be via Zoom.

To register to attend in-person or virtually and receive information on how to listen to the meeting and to provide comments, please visit: https://www.epa.gov/faca/frrcc-0.

Attendees must register online to receive instructions for virtual attendance. To provide comments in-person or online, attendees must register online by Friday, May 24, 2024, at 11:59 p.m. (EST).

FOR FURTHER INFORMATION CONTACT: Dr. Venus Welch-White, Designated Federal Officer for the FRRCC and AAWQ at (202) 566-2369 or AAWQ@epa.gov. General information regarding the FRRCC can be found on the EPA website at https://www.epa.gov/faca/frrcc.

SUPPLEMENTARY INFORMATION: Meetings of the AAWQ are open to the public. An agenda will be posted at https://www.epa.gov/faca/frrcc-0.

Access and Accommodations: For information on access or services for individuals with disabilities, please visit: https://www.epa.gov/faca/frrcc-0. The deadline to request access and accommodations is Friday, May 24, 2024 at 11:59 p.m. (EST).

Venus Welch-White,
Acting Deputy Director, Office of Agriculture and Rural Affairs, Office of the Administrator, U.S. EPA.

[FR Doc. 2024-10666 Filed 5-15-24; 8:45 am]

BILLING CODE 6560-50-P